DEPARTMENT OF TRANSPORTATION

Federal Aviation Administration

14 CFR Part 71

[Docket No. FAA-2020-0768; Airspace Docket No. 18-AWP-25]

RIN 2120-AA66

Amendment of Class D and Class E Airspace; Truckee, CA

AGENCY: Federal Aviation Administration (FAA), DOT.

ACTION: Final rule.

SUMMARY: This action modifies the Class E airspace designated as an extension to a Class D or Class E surface area at Truckee-Tahoe Airport. This action also modifies the Class E airspace extending upward from 700 feet above the surface. Lastly, this action proposes an administrative correction to all of the airspaces' legal descriptions.

DATES: Effective 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, part A, Subpart I, Section 40103. Under that section, the FAA is charged with prescribing regulations to assign the use of airspace necessary to ensure the safety of aircraft and the efficient use of airspace. This regulation is within the scope of that authority as it modifies Class D and Class E airspace at Truckee-Tahoe Airport, Truckee, CA, to ensure the safety and management of Instrument Flight Rules (IFR) operations at the airport.

History

The FAA published a notice of proposed rulemaking in the Federal Register (85 FR 53713; August 31, 2020) for Docket No. FAA-2020-0768 to modify Class D and Class E airspace at Truckee-Tahoe Airport, Truckee, CA. Interested parties were invited to participate in this rulemaking effort by submitting written comments on the proposal to the FAA. One comment, that is not germane to the proposed airspace action, was received.

Subsequent to publication, the FAA identified a technical error in the NPRM. The error is located in the description of the Class E airspace designated as an extension to a Class D or Class E surface area. The correction does not alter the external boundaries of the airspace area. The NPRM listed the area as follows: That airspace extending upward from the surface within 1.2 miles west and 0.9 miles east of the 316° bearing from the airport, extending from the 4.2-mile radius of the airport to 8.3 miles northwest of Truckee-Tahoe Airport. The airspace area is corrected to read as follows: That airspace extending upward from the surface within 1.1 miles west and 1 mile east of the 315° bearing from the airport, extending from the 4.2-mile radius of the airport to 8.3 miles northwest of Truckee-Tahoe Airport.

Class D, E2, E4, and E5 airspace designations are published in paragraphs 5000, 6002, 6004, and 6005, respectively, of FAA Order 7400.11E, dated July 21, 2020, and effective September 15, 2020, which is incorporated by reference in 14 CFR 71.1. The Class D and Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to Title 14 Code of Federal Regulations part 71 modifies the Class E airspace area designated as an extension to a Class D or Class E surface area at Truckee-Tahoe Airport. The airspace has been reduced and is described as follows: That airspace extending upward from the surface within 1 mile each side of the 017° bearing from the airport, extending from the 4.2-mile radius of the airport to 9.7 miles north of the airport; and within 1.1 miles west and 1 mile east of the 315° bearing from the airport, extending from the 4.2-mile radius of the airport to 8.3 miles northwest of Truckee-Tahoe Airport.

This action also modifies the Class E airspace extending upward from 700 feet above the surface. This airspace is designed to contain IFR departures to 1,200 feet above the surface and IFR arrivals descending below 1,500 feet above the surface. The airspace is described as follows: That airspace extending upward from 700 feet above the surface within a 4.2-mile radius of the airport, and within 2 miles each side of the 018° bearing from the airport, extending from 9.7 miles to 11.6 miles north of the airport, and within 1.1 miles each side of the 266° bearing from the airport, extending from the 4.2-mile radius to 13.5 miles west of the airport, and within 2.7 miles west and 1.9 miles east of the 321° bearing from the airport, extending from 8.3 miles to 14.8 miles northwest of the airport, and within an area beginning at 4.2 miles on the 324° bearing from the airport, then to 6.5 miles on the 324° bearing from the airport, then clockwise within a 6.5-mile radius of the airport to the 008° bearing from the airport, then along the 008° bearing to 4.2 miles, then counterclockwise within a 4.2-mile radius of the airport to the 324° bearing northwest of Truckee-Tahoe Airport.

Lastly, this action implements an administrative amendment to all of the airspaces' legal descriptions for Truckee-Tahoe Airport. To match the FAA aeronautical database, the airport's geographical coordinates are updated to Lat. 39°19′12″ N, long. 120°08′23″ W.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

AWP CA D Truckee, CA [Amended]

Truckee-Tahoe Airport, CA

(Lat. 39°19′12″ N, long. 120°08′23″ W)

That airspace extending upward from the surface to and including 8,400 feet MSL within a 4.2-mile radius of Truckee-Tahoe Airport. This Class D airspace area is effective during the specific dates and times established in advance by a Notice to Airmen. The effective date and time will thereafter be continuously published in the Chart Supplement.

Paragraph 6002 Class E Airspace Areas Designated as a Surface Area.

* * * * *

AWP CA E2 Truckee, CA [Amended]

Truckee-Tahoe Airport, CA

(Lat. 39°19′12″ N, long. 120°08′23″ W)

That airspace extending upward from the surface within a 4.2-mile radius of Truckee-Tahoe Airport. This Class E surface area is effective during the specific dates and times established, in advance, by a Notice to Airmen. The effective date and time will thereafter be continuously published in the Chart Supplement.

Paragraph 6004 Class E Airspace Areas Designated as an Extension to a Class D or Class E Surface Area.

* * * * *

AWP CA E4 Truckee, CA [Amended]

Truckee-Tahoe Airport, CA

(Lat. 39°19′12″ N, long. 120°08′23″ W)

That airspace extending upward from the surface within 1 mile each side of the 017° bearing from the airport, extending from the 4.2-mile radius of the airport to 9.7 miles north of the airport; and within 1.1 miles west and 1 mile east of the 315° bearing from the airport, extending from the 4.2-mile radius of the airport to 8.3 miles northwest of Truckee-Tahoe Airport.

Paragraph 6005 Class E Airspace Areas Extending Upward From 700 Feet or More Above the Surface of the Earth.

* * * * *

AWP CA E5 Truckee, CA [Amended]

Truckee-Tahoe Airport, CA

(Lat. 39°19′12″ N, long. 120°08′23″ W)

That airspace extending upward from 700 feet above the surface within a 4.2-mile radius of the airport, and within 2 miles each side of the 018° bearing from the airport, extending from 9.7 miles to 11.6 miles north of the airport, and within 1.1 miles each side of the 266° bearing from the airport, extending from the 4.2-mile radius to 13.5 miles west of the airport, and within 2.7 miles west and 1.9 miles east of the 321° bearing from the airport, extending from 8.3 miles to 14.8 miles northwest of the airport, and within an area beginning at 4.2 miles on the 324° bearing from the airport, then to 6.5 miles on the 324° bearing from the airport, then clockwise within a 6.5-mile radius of the airport to the 008° bearing from the airport, then along the 008° bearing to 4.2 miles, then counterclockwise within a 4.2-mile radius of the airport to the 324° bearing northwest of Truckee-Tahoe Airport.

Issued in Seattle, Washington, on November 17, 2020.
B.G. Chew,
Acting Group Manager, Operations Support Group, Western Service Center.

[FR Doc. 2020-25712 Filed 11-23-20; 8:45 am]

BILLING CODE 4910-13-P